Proclamation 8980 of May 10, 2013

Mother's Day, 2013

By the President of the United States of America

A Proclamation

Today, sons and daughters all across America come together to honor the women who raised them. Whether single or in partnership, foster or adoptive, mothers hold a special place in our hearts. For many of us, they are our first caretakers and our first teachers, imparting the early lessons that guide us growing up. And no matter the challenges we face or the paths we choose, moms are there for their children with hope and love—scraping and sacrificing and doing whatever it takes to give them a bright future.

That work has often stretched outside the home. In the century since Americans first came together to mark Mother's Day, generations of women have empowered their children with the courage and grit to fight for change. But they have also fought to secure it themselves. Mothers pioneered a path to the vote, from Seneca Falls to the 19th Amendment. They helped write foundational protections into our laws, like freedom from workplace discrimination and access to affordable health care. They shattered ceilings in business and government, on the battlefield and on the court. With every step, they led the way to a more perfect Union, widening the circle of opportunity for our daughters and sons alike.

That history of striving and success affirms America's promise as a place where all things can be possible for all people. But even now, we have more work to do before that promise is made real for each of us. Workplace inflexibility puts a strain on too many mothers juggling their jobs' needs with those of their kids. Wage inequality still leaves too many families struggling to make ends meet. These problems affect all of us—and just as mothers pour themselves into giving their children the best chance in life, we need to make sure they get the fairness and opportunities they deserve.

On Mother's Day, we give thanks to proud, caring women from every walk of life. Whether balancing the responsibilities of career and family or taking up the work of sustaining a home, a mother's bond with her child is unwavering; her love, unconditional. Today, we celebrate those blessings, and we renew them for the year to come.

The Congress, by a joint resolution approved May 8, 1914 (38 Stat. 770), has designated the second Sunday in May each year as “Mother's Day” and requested the President to call for its appropriate observance.

NOW, THEREFORE, I, BARACK OBAMA, President of the United States of America, do hereby proclaim May 12, 2013, as Mother's Day. I urge all Americans to express love and gratitude to mothers everywhere, and I call upon all citizens to observe this day with appropriate programs, ceremonies, and activities.

IN WITNESS WHEREOF, I have hereunto set my hand this tenth day of May, in the year of our Lord two thousand thirteen, and of the Independence of the United States of America the two hundred and thirty-seventh.

[FR Doc. 2013-11757

Filed 5-14-13; 11:15 am]

Billing code 3295-F3